DEPARTMENT OF DEFENSE

Office of the Secretary

Meeting of the DoD Healthcare Quality Initiative Review Panel

AGENCY: Department of Defense.

ACTION: Notice.

SUMMARY: This notice set forth the meeting of the DoD Healthcare Quality Initiatives Review Panel. An executive/administration meeting for DoD Healthcare Quality Initiatives Review Panel was held on November 28 and 29, 2000. This notice of meeting is required under The Federal Advisory Committee Act. This notice was sent out late due to an administration oversight.

DATES: November 28 and 29, 2000.

ADDRESSES: Hilton Alexandria Mark Center, 5000 Seminary Road, Alexandria, VA 22311.

TIME: November 28th, 8 am to 5 pm; November 29th, 8 am to 5 pm.

SUPPLEMENTARY INFORMATION: Contact Gia Edmonds at (703) 933-8325.

Dated: November 22, 2000.
L.M. Bynum,
Alternate OSD Federal Register Liaison Officer, Department of Defense.

[FR Doc. 00-30477 Filed 11-29-00; 8:45 am]

BILLING CODE 5001-10-M